Proclamation 9063 of November 26, 2013

Thanksgiving Day, 2013

By the President of the United States of America

A Proclamation

Thanksgiving offers each of us the chance to count our many blessings—the freedoms we enjoy, the time we spend with loved ones, the brave men and women who defend our Nation at home and abroad. This tradition reminds us that no matter what our background or beliefs, no matter who we are or who we love, at our core we are first and foremost Americans.

Our annual celebration has roots in centuries-old colonial customs. When we gather around the table, we follow the example of the Pilgrims and Wampanoags, who shared the fruits of a successful harvest nearly 400 years ago. When we offer our thanks, we mirror those who set aside a day of prayer. And when we join with friends and neighbors to alleviate suffering and make our communities whole, we honor the spirit of President Abraham Lincoln, who called on his fellow citizens to “fervently implore the interposition of the Almighty hand to heal the wounds of the nation, and to restore it, as soon as may be consistent with the Divine purposes, to the full enjoyment of peace, harmony, tranquility, and union.”

Our country has always been home to Americans who recognize the importance of giving back. Today, we honor all those serving our Nation far from home. We also thank the first responders and medical professionals who work through the holiday to keep us safe, and we acknowledge the volunteers who dedicate this day to those less fortunate.

This Thanksgiving Day, let us forge deeper connections with our loved ones. Let us extend our gratitude and our compassion. And let us lift each other up and recognize, in the oldest spirit of this tradition, that we rise or fall as one Nation, under God.

NOW, THEREFORE, I, BARACK OBAMA, President of the United States of America, by virtue of the authority vested in me by the Constitution and the laws of the United States, do hereby proclaim Thursday, November 28, 2013, as a National Day of Thanksgiving. I encourage the people of the United States to join together—whether in our homes, places of worship, community centers, or any place of fellowship for friends and neighbors—and give thanks for all we have received in the past year, express appreciation to those whose lives enrich our own, and share our bounty with others.

IN WITNESS WHEREOF, I have hereunto set my hand this twenty-sixth day of November, in the year of our Lord two thousand thirteen, and of the Independence of the United States of America the two hundred and thirty-eighth.

[FR Doc. 2013-28993

Filed 11-29-13; 11:15 am]

Billing code 3295-F4